DEPARTMENT OF COMMERCE

International Trade Administration

[A-570-943]

Certain Oil Country Tubular Goods From the People's Republic of China: Notice of Amended Preliminary Determination of Sales at Less Than Fair Value

AGENCY: Import Administration, International Trade Administration, Department of Commerce.

DATES: Effective Date: December 30, 2009.

SUMMARY: The Department of Commerce (“Department”) has determined that it made certain significant ministerial errors in the preliminary determination of sales at less than fair value in the antidumping duty investigation of oil country tubular goods (“OCTG”) from the People's Republic of China (“PRC”) ¹ as described below in the “Supplementary Information” section of this notice. The Department has corrected those errors and has re-calculated the antidumping duty margins for a mandatory respondent and for exporters eligible for a separate rate as shown below in the “Amended Preliminary Determination” section of this notice. As a result of a document conversion error, the version of this notice released to interested parties on December 4, 2009, omitted the name of an exporter/producer combination that is eligible for a separate rate ² and inadvertently misidentified the name of a non-selected respondent, Qiqihaer Haoying Iron and Steel Co., Ltd. of Northeast Special Steel Group (“Qiqihaer”), a separate-rate applicant. This amended notice corrects this error. Because these errors were discovered prior to publication in the Federal Register, this amended preliminary determination is being published in place of the original version released on December 4, 2009.

¹ See Certain Oil Country Tubular Goods From the People's Republic of China: Notice of Preliminary Determination of Sales at Less Than Fair Value, Affirmative Preliminary Determination of Critical Circumstances and Postponement of Final Determination, 74 FR 59117 (November 17, 2009) (“Preliminary Determination”).

² The amended Preliminary Determination released to parties on December 4, 2009, inadvertently omitted the following exporter and producer combination: Exporter, Pangang Group Chengdu Iron & Steel; Producer, Pangang Group Chengdu Iron & Steel.

FOR FURTHER INFORMATION CONTACT: Paul Stolz or Eugene Degnan, Import Administration, International Trade Administration, U.S. Department of Commerce, 14th Street and Constitution Avenue, NW., Washington, DC 20230; telephone: (202) 482-4474, or 482-0414, respectively.

Scope of Investigation

The merchandise covered by the investigation consists of certain oil country tubular goods (“OCTG”), which are hollow steel products of circular cross-section, including oil well casing and tubing, of iron (other than cast iron) or steel (both carbon and alloy), whether seamless or welded, regardless of end finish (e.g., whether or not plain end, threaded, or threaded and coupled) whether or not conforming to American Petroleum Institute (“API”) or non-API specifications, whether finished (including limited service OCTG products) or unfinished (including green tubes and limited service OCTG products), whether or not thread protectors are attached. The scope of the investigation also covers OCTG coupling stock. Excluded from the scope of the investigation are casing or tubing containing 10.5 percent or more by weight of chromium; drill pipe; unattached couplings; and unattached thread protectors.

The merchandise covered by the investigation is currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

The HTSUS subheadings are provided for convenience and customs purposes only, the written description of the scope of the investigation is dispositive.

SUPPLEMENTARY INFORMATION:

Significant Ministerial Error

Pursuant to 19 CFR 351.224(e) and (g)(1), the Department is amending the preliminary determination of sales at less than fair value in the antidumping duty investigation of OCTG from the PRC to reflect the correction of significant ministerial errors it made in the margin calculations regarding Tianjin Pipe (Group) Corporation (“TPCO”), a mandatory respondent, and in the name of a non-selected respondent, Qiqihaer Haoying Iron and Steel Co., Ltd. of Northeast Special Steel Group (“Qiqihaer”), a separate rate applicant. A ministerial error is defined as an error in addition, subtraction, or other arithmetic function, clerical error resulting from inaccurate copying, duplication, or the like, and any other similar type of unintentional error which the Secretary considers ministerial. See 19 CFR 351.224(f). A significant ministerial error is defined as a ministerial error, the correction of which, singly or in combination with other errors, would result in (1) a change of at least five absolute percentage points in, but not less than 25 percent of, the weighted-average dumping margin calculated in the original (erroneous) preliminary determination or (2) a difference between a weighted-average dumping margin of zero or de minimis and a weighted-average dumping margin of greater than de minimis or vice versa. See 19 CFR 351.224(g).

Ministerial-Error Allegation

On November 17, 2009, the Department published its affirmative preliminary determination in this proceeding. See Preliminary Determination. On November 13, 2009, Qiqihaer, a separate rate applicant, submitted a ministerial error allegation claiming that the Department did not name it in the Preliminary Determination as one of the exporters receiving a separate rate. On November 16, 2009, Maverick Tube Corporation and United States Steel Corporation (“Petitioners”) ³ submitted ministerial error allegations with respect to the margin calculations for TPCO in the Preliminary Determination, relating to certain conversion errors and surrogate value calculations. No other interested party submitted ministerial error allegations. The Department has reviewed its preliminary calculations and agrees that the errors which the parties alleged are significant ministerial errors within the meaning of 19 CFR 351.224(g). See the “Ministerial Error Memorandum, Certain Oil Country Tubular Goods from the People's Republic of China, Preliminary Determination of Sales at Less Than Fair Value,” dated December 4, 2009, for a discussion of the ministerial error allegations. See Appendix I for a list of the ministerial error allegations.

³ TMK IPSCO, V&M Star L.P., V&M Tubular Corporation of America, Wheatland Tube Corp., Evraz Rocky Mountain Steel, and United Steel, Paper and Forestry, Rubber, Manufacturing, Energy, Allied Industrial and Service Workers International Union, AFL-CIO-CLC, also Petitioners, did not submit ministerial error allegations.

We are publishing this amendment to the preliminary determination pursuant to 19 CFR 351.224(e). As a result of this amended preliminary determination, we have revised the antidumping rate for TPCO and corrected Qiqihaer's name in the list of exporters that received a separate rate.⁴ In addition, we have revised the separate rate based on TPCO's revised dumping margin.

⁴ In the Preliminary Determination, we inadvertently referred to Qiqihaer as “Qiqihaer Bonded Logistics Park Products International Trading Co., Ltd.” as both the exporter and producer; there was no separate rate applicant named Qiqihaer Bonded Logistics Park Products International Trading Co., Ltd.

The collection of bonds or cash deposits and suspension of liquidation will be revised accordingly and parties will be notified of this determination, in accordance with section 733(d) and (f) of the Tariff Act of 1930, as amended, (“the Act”).

Effective Date

The effective date of the corrected name for Qiqihaer will be November 17, 2009, the date of publication of the Preliminary Determination. The effective date of the amended preliminary determination rate for TPCO and the separate rate recipients will the date of publication of this amended preliminary determination in the Federal Register.

Amended Preliminary Determination

As a result of our correction of significant ministerial errors in the Preliminary Determination, we have determined that the following weighted-average dumping margins apply:

Exporter | Producer | Weighted-average margin
Tianjin Pipe International Economic and Trading Corporation | Tianjin Pipe (Group) Corporation | 96.51
Angang Group Hong Kong Co., Ltd | Angang Steel Co. Ltd | 96.51
Angang Steel Co., Ltd., and Angang Group International Trade Corporation | Angang Steel Co. Ltd | 96.51
Anhui Tianda Oil Pipe Co., Ltd | Anhui Tianda Oil Pipe Co., Ltd | 96.51
Anshan Zhongyou Tipo Pipe & Tubing Co., Ltd | Anshan Zhongyou Tipo Pipe & Tubing Co., Ltd | 96.51
Baotou Steel International Economic and Trading Co., Ltd | Baotou Steel International Economic and Trading Co., Ltd | 96.51
Benxi Northern Steel Pipes Co., Ltd | Benxi Northern Steel Pipes Co., Ltd | 96.51
Chengdu Wanghui Petroleum Pipe Co. Ltd | Chengdu Wanghui Petroleum Pipe Co. Ltd | 96.51
Dalipal Pipe Company | Dalipal Pipe Company | 96.51
Faray Petroleum Steel Pipe Co. Ltd | Faray Petroleum Steel Pipe Co. Ltd | 96.51
Freet Petroleum Equipment Co., Ltd. of Shengli Oil Field, The Thermal Recovery Equipment, Zibo Branch | Freet Petroleum Equipment Co., Ltd. of Shengli Oil Field, The Thermal Recovery Equipment, Zibo Branch | 96.51
Hengyang Steel Tube Group International Trading, Inc | Hengyang Valin MPM Tube Co., Ltd.; Hengyang Valin Steel Tube Co., Ltd | 96.51
Huludao Steel Pipe Industrial Co., Ltd./Huludao City Steel Pipe Industrial Co., Ltd | Huludao Steel Pipe Industrial Co., Ltd./Huludao City Steel Pipe Industrial Co., Ltd | 96.51
Jiangsu Chengde Steel Tube Share Co., Ltd | Jiangsu Chengde Steel Tube Share Co., Ltd | 96.51
Jiangyin City Changjiang Steel Pipe Co., Ltd | Jiangyin City Changjiang Steel Pipe Co., Ltd | 96.51
Pangang Group Beihai Steel Pipe Corporation | Pangang Group Beihai Steel Pipe Corporation | 96.51
Pangang Group Chengdu Iron & Steel | Pangang Group Chengdu Iron & Steel | 96.51
Qingdao Bonded Logistics Park Products International Trading Co., Ltd | Shengli Oilfield Highland Petroleum Equipment Co., Ltd.; Shandong Continental Petroleum Equipment Co., Ltd.; Aofei Tele Dongying Import & Export Co., Ltd.; Highgrade Tubular Manufacturing (Tianjin) Co., Ltd.; Cangzhou City Baohai Petroleum Material Co., Ltd | 96.51
Qiqihaer Haoying Iron and Steel Co., Ltd. of Northeast Special Steel Group | Qiqihaer Haoying Iron and Steel Co., Ltd. of Northeast Special Steel Group | 96.51
Shandong Dongbao Steel Pipe Co., Ltd | Shandong Dongbao Steel Pipe Co., Ltd | 96.51
ShanDong HuaBao Steel Pipe Co., Ltd | ShanDong HuaBao Steel Pipe Co., Ltd | 96.51
Shandong Molong Petroleum Machinery Co., Ltd | Shandong Molong Petroleum Machinery Co., Ltd | 96.51
Shanghai Metals & Minerals Import & Export Corp./Shanghai Minmetals Materials & Products Corp | Jiangsu Changbao Steel Pipe Co., Ltd.; Huludao Steel Pipe Industrial Co., Ltd.; Northeast Special Steel Group Qiqihaer Haoying Steel and Iron Co., Ltd.; Beijing Youlu Co., Ltd | 96.51
Shanghai Zhongyou Tipo Steel Pipe Co., Ltd | Shanghai Zhongyou Tipo Steel Pipe Co., Ltd | 96.51
Shengli Oil Field Freet Petroleum Equipment Co., Ltd | Freet Petroleum Equipment Co., Ltd. of Shengli Oil Field, The Thermal Recovery Equipment, Zibo Branch; Faray Petroleum Steel Pipe Co., Ltd.; Shengli Oil Field Freet Petroleum Steel Pipe Co., Ltd | 96.51
Shengli Oil Field Freet Petroleum Steel Pipe Co., Ltd | Freet Petroleum Equipment Co., Ltd. of Shengli Oil Field, The Thermal Recovery Equipment, Zibo Branch; Tianda Oil Pipe Co., Ltd; Wuxi Fastube Dingyuan Precision Steel Pipe Co., Ltd | 96.51
Shengli Oilfield Highland Petroleum Equipment Co., Ltd | Tianjin Pipe Group Corp.; Goods & Materials Supply Dept. of Shengli Oilfield SinoPEC; Dagang Oilfield Group New Century Machinery Co. Ltd.; Tianjin Seamless Steel Pipe Plant; Baoshan Iron & Steel Co. Ltd | 96.51
Shengli Oilfield Shengji Petroleum Equipment Co., Ltd | Shengli Oilfield Shengji Petroleum Equipment Co., Ltd | 96.51
Tianjin Xingyuda Import and Export Co., Ltd. & Hong Kong Gallant Group Limited | Tianjin Lifengyuanda Steel Group Co., Ltd | 96.51
Tianjin Seamless Steel Pipe Plant | Tianjin Seamless Steel Pipe Plant | 96.51
Tianjin Tiangang Special Petroleum Pipe Manufacturer Co., Ltd | Tianjin Tiangang Special Petroleum Pipe Manufacturer Co., Ltd | 96.51
Wuxi Baoda Petroleum Special Pipe Manufacturing Co., Ltd | Wuxi Baoda Petroleum Special Pipe Manufacturing Co., Ltd | 96.51
Wuxi Seamless Oil Pipe Co., Ltd | Wuxi Seamless Oil Pipe Co., Ltd | 96.51
Wuxi Sp. Steel Tube Manufacturing Co., Ltd | Wuxi Precese Special Steel Co., Ltd | 96.51
Wuxi Zhenda Special Steel Tube Manufacturing Co., Ltd | Huai'an Zhenda Steel Tube Manufacturing Co., Ltd | 96.51
Xigang Seamless Steel Tube Co., Ltd | Xigang Seamless Steel Tube Co., Ltd.; Wuxi Seamless Special Pipe Co., Ltd | 96.51
Yangzhou Lontrin Steel Tube Co., Ltd | Yangzhou Lontrin Steel Tube Co., Ltd | 96.51
Zhejiang Jianli Co., Ltd. & Zhejiang Jianli Steel Tube Co., Ltd | Zhejiang Jianli Co., Ltd.; Zhejiang Jianli Steel Tube Co., Ltd | 96.51
PRC-wide Entity* |  | 99.14

*Shengli Oil Field Freet Import & Export Trade Co., Ltd. is part of the PRC-wide entity.

The PRC-wide rate has not been amended. Further, we will not instruct U.S. Customs and Border Protection (“CBP”) to suspend liquidation or require a cash deposit or the posting of a bond for imports of OCTG from the PRC exported and produced by Changbao, because we have calculated a margin of zero percent for Changbao. In addition, consistent with the Preliminary Determination, we will adjust, as appropriate, the remaining exporter's cash deposit rates for export subsidies determined in Certain Oil Country Tubular Goods From the People's Republic of China: Preliminary Affirmative Countervailing Duty Determination, Preliminary Negative Critical Circumstances Determination, 74 FR 47210 (September 15, 2009).

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or likelihood of sales) for importation, of the subject merchandise.

This determination is issued and published in accordance with sections 733(f) and 777(I)(1) of the Act and 19 CFR 351.224(e).

Dated: December 18, 2009.
Ronald K. Lorentzen,
Deputy Assistant Secretary for Import Administration.

Appendix I

Issue 1: Whether the Department incorrectly applied a currency conversion rate to the surrogate value for oxygen.

Issue 2: Whether the Department used the correct value for steel scrap.

Issue 3: Whether the Department used the correct surrogate value for marine insurance.

Issue 4: Whether the Department made an error converting brokerage and handling to a metric ton (“MT”) basis.

Issue 5: Whether the Department erroneously applied a weight conversion to certain export price (“EP”) sales.

Issue 6: Whether the Department applied converted MT values in certain U.S. price adjustments.

Issue 7: Whether the Department failed to list the name of a company granted a separate rate in the preliminary determination in the Federal Register notice.

[FR Doc. E9-31025 Filed 12-29-09; 8:45 am]

BILLING CODE 3510-DS-P